DEPARTMENT OF ENERGY

[Docket No. EA-137-A]

Application to Amend Electricity Export Authorization; New York State Electric & Gas Corporation

AGENCY: Office of Fossil Energy, DOE.

ACTION: Notice of application.

SUMMARY: New York State Electric & Gas Corporation (NYSEG) has submitted an application to amend its authorization to transmit electric energy from the United States to Canada pursuant to section 202(e) of the Federal Power Act.

DATES: Comments, protests or requests to intervene must be submitted on or before November 7, 2002.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA)(16 U.S.C. 824a(e)).

On April 14, 1997, the Office of Fossil Energy (FE) of the Department of Energy (DOE) authorized NYSEG to transmit electric energy from the United States to Canada using the international electric transmission facilities owned by Niagara Mohawk Power Corporation and the New York Power Authority.

On September 17, 2002, NYSEG applied to amend its existing export authorization by adding to the list of authorized export points those international transmission facilities owned by Citizens Utilities Company, the Joint Owners of Highgate Project, and Vermont Electric Transmission Company. The construction, operation, maintenance, and connection of each of the international transmission facilities to be utilized by NYSEG, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with the DOE on or before the date listed above.

Comments on the NYSEG application to export electric energy to Canada should be clearly marked with Docket EA-137-A. Additional copies are to be filed directly with Mr. John R. Tigue, Manager, Bulk Power Sales, New York State Electric & Gas Corporation, Corporate Drive, Kirkwood Industrial Park, Post Office Box 5224, Binghamton, New York 13902-5224 and Mr. William J. Cronin, Esq., Rosa Pietanza, Esq., Huber Lawrence & Abell, 605 Third Avenue, 27th Flr, New York, New York 10158.

Copies of this application will be made available, upon request, for public inspection and copying at the address provided above or by accessing the Fossil Energy Home Page at http://www.fe.doe.gov. Upon reaching the Fossil Energy Home page, select “Regulatory Programs,” then “Pending Procedures” from the options menus.

Issued in Washington, DC on October 2, 2002.
Anthony J. Como,
Deputy Director, Electric Power Regulation, Office of Coal & Power Import/Export, Office of Coal & Power Systems, Office of Fossil Energy.

[FR Doc. 02-25535 Filed 10-7-02; 8:45 am]

BILLING CODE 6450-01-P